ENVIRONMENTAL PROTECTION AGENCY

[FRL-7246-5]

Agency Information Collection Activities: Proposed Collection; Comment Request; Clean Water Act Section 404 State-Assumed Programs

AGENCY: Environmental Protection Agency (EPA).

ACTION: Notice.

SUMMARY: In compliance with the Paperwork Reduction Act (44 U.S.C. 3501 et seq.), this document announces that EPA is planning to submit the following continuing Information Collection Request (ICR) to the Office of Management and Budget (OMB): Clean Water Act Section 404 State-Assumed Programs; OMB No. 2040-0168; EPA No. 0220.08; expiration date January 31, 2003. Before submitting the ICR to OMB for review and approval, EPA is soliciting comments on specific aspects of the proposed information collection as described below.

DATES: Comments must be submitted on or before September 16, 2002.

ADDRESSES: Comments should be sent to Lori Williams, at US Environmental Protection Agency, Wetlands Division (4502T), 1200 Pennsylvania Avenue NW, Washington, DC 20460 or williams.lorraine@epa.gov. Interested persons may obtain a copy of the ICR without charge by contacting the person identified above and referencing the EPA ICR Number, 0220.08, or by downloading a copy off the Internet at http://www.epa.gov/icr.

FOR FURTHER INFORMATION CONTACT: Lori Williams by phone at 202-566-1376; by facsimile at 202-566-1375; or by email at williams.lorraine@epa.gov.

SUPPLEMENTARY INFORMATION: Affected entities: Entities potentially affected by this action are those State/Tribes requesting assumption of the Clean Water Act Section 404 permit program; States/Tribes with approved assumed programs; and permit applicants in States or Tribes with assumed programs.

Title: Section 404 State-Assumed Programs; OMB No. 2040-0168; EPA No. 0220.08; expiration date January 31, 2003.

Abstract: Section 404(g) of the Clean Water Act authorizes States [and Tribes] to assume the Section 404 permit program. States/Tribes must demonstrate that they meet the statutory and regulatory requirements (40 CFR part 233) for an approvable program. Specified information and documents must be submitted by the State/Tribe to EPA to request assumption. Once the required information and documents are submitted and EPA has a complete assumption request package, the statutory time clock for EPA's decision to either approve or deny the State/Tribe's assumption request starts. The information contained in the assumption request is made available to the other involved Federal agencies (Corps of Engineers, Fish and Wildlife Service, and National Marine Fisheries Service) and to the general public for review and comment.

States/Tribes must be able to issue permits that comply with the 404(b)(1) Guidelines, the environmental review criteria. States/Tribes and the reviewing Federal agencies must be able to review proposed projects to evaluate and/or minimize anticipated impacts. EPA's assumption regulations establish recommended elements that should be included in the State/Tribe's permit application, so that sufficient information is available to make a thorough analysis of anticipated impacts. These minimum information requirements are based on the information that must be submitted when applying for a Section 404 permit from the Corps of Engineers.

EPA is responsible for oversight of assumed programs to ensure that State/Tribal programs are in compliance with applicable requirements and that State/Tribal permit decisions adequately consider and minimize anticipated impacts. States/Tribes must evaluate their programs annually and submit the results in a report to EPA. EPA's assumption regulations establish minimum requirements for the annual report. An agency may not conduct or sponsor, and a person is not required to respond to, a collection of information unless it displays a currently valid OMB control number. The OMB control numbers for EPA's regulations are listed in 40 CFR Part 9 and 48 CFR Chapter 15.

The EPA would like to solicit comments to:

(i) Evaluate whether the proposed collection of information is necessary for the proper performance of the functions of the agency, including whether the information will have practical utility;

(ii) Evaluate the accuracy of the agency's estimate of the burden of the proposed collection of information, including the validity of the methodology and assumptions used;

(iii) Enhance the quality, utility and clarity of the information collected; and

(iv) Minimize the burden of the collection of information on those who are to respond, including through the use of appropriate automated electronic, mechanical, or other technological collection techniques or other forms of information technology, e.g., permitting electronic submission of responses.

Burden Statement: EPA's currently approved ICR includes 101,440 hours. The State/Tribe's assumption request is a one-time request; a permit application is made each time someone desires to do work that involves the discharge of dredged or fill material into waters of the United States, including regulated wetlands; and a State/Tribe with an approved program must submit an annual report to EPA each year. This collection is split into three pieces:

(i) We estimate that a State/Tribe will need 520 hours (approximately ¼ of a work year) to prepare the documentation for EPA to determine that a State/Tribe's assumption is complete. We estimate that $46,500 (starting point of a GS-11) is an average State/Tribal employee salary. This results in a one-time cost of $11,625. We estimate that two States or Tribes may request program assumption over the next three years. This results in a total one-time burden of 1,040 hours and a total cost of $23,250.

(ii) We estimate that the average time needed to complete a permit application is five hours. The actual time to complete a permit application will vary greatly depending on the size and location of a planned project. Small projects will require less time; large, complex projects could require significantly more time. We estimate that the “average” assumed program will process 5,000 permits a year. This results in a burden of 25,000 burden hours per year per assumed program. This figure will vary with the assumed program. It is likely that some State/Tribes will have significantly fewer permit applications requested each year; others may have more. It is impossible to estimate the cost of filing an “average” permit application. The application for small projects can be completed by the permit applicant with little cost incurred. The permit application for larger, complex projects may require hiring outside parties such as environmental and engineering firms, surveyors, and lawyers.

(iii) We estimate that a State/Tribe will need 80 hours to collect and analyze the information and prepare the annual report. Using the $46,500 for an average State/Tribal employee salary results in an approximate cost of $1,800 to prepare the annual report.

Burden means the total time, effort, or financial resources expended by persons to generate, maintain, retain, or disclose or provide information to or for a Federal agency. This includes the time needed to review instructions; develop, acquire, install, and utilize technology and systems for the purpose of collecting, validating, and verifying information, processing and maintaining information, and disclosing and providing information; adjust the existing ways to comply with any previously applicable instructions and requirements; train personnel to be able to respond to a collection of information; search data sources; complete and review the collection of information; and transmit or otherwise disclose the information.

Dated: July 10, 2002.
Robert H. Wayland III,
Director, Office of Wetlands, Oceans and Watersheds.

[FR Doc. 02-17867 Filed 7-15-02; 8:45 am]

BILLING CODE 6560-50-P